DEPARTMENT OF AGRICULTURE

Forest Service

Establishment of Sewee Purchase Unit, Charleston County, SC

AGENCY: Forest Service, USDA.

ACTION: Notice.

SUMMARY: On December 20, 1999, the Deputy Under Secretary of Natural Resources and Environment created the Sewee Purchase Unit. This purchase unit comprises 3000 acres, more or less, within Charleston County, South Carolina. A copy of the establishment document, which includes the legal description of the lands within the purchase unit, appears at the end of this notice.

EFFECTIVE DATES: Establishment of this purchase unit was effective December 20, 1999.

ADDRESSES: A copy of the map showing the purchase unit is on file and available for public inspection in the Office of the Director, Lands Staff, 4th Floor-South, Sidney R. Yates Federal Building, Forest Service, USDA, 201 14th Street, SW., Washington, D.C. 20250, between the hours of 8:30 a.m. and 4:30 p.m. on business days. Those wishing to inspect the map are encouraged to call ahead to (202) 205-1248 to facilitate entry into the building.

FOR FURTHER INFORMATION CONTACT: Jack Craven, Director, Lands Staff, Forest Service, USDA, P.O. Box 96090, Washington, D.C. 20090-6090, telephone: (202) 205-1248.

Dated: July 30, 2001.
Hilda Diaz-Soltero,
Associate Chief for Natural Resources.

[FR Doc. 01-19802 Filed 8-7-01; 8:45 am]

BILLING CODE 3410-11-C